DEPARTMENT OF TRANSPORTATION

Surface Transportation Board

[STB Finance Docket No. 34963]

James Riffin d/b/a The Raritan Valley Connecting Railroad—Acquisition and Operation Exemption—On Raritan Valley Connecting Track

James Riffin d/b/a The Raritan Valley Connecting Railroad (Mr. Riffin), a Class III rail carrier,¹ has filed an amended notice of exemption under 49 CFR 1150.41 to acquire and operate an approximately 1.25-mile segment of a rail line known as the Raritan Valley Connecting Track (Line Code 0326, Sub. No. 1038), extending from the Northerly sideline of the Lehigh Valley Line (at former Delaware & Bound Brook milepost 57.25), in Manville Borough, to the intersection with the southerly sideline of the former Raritan Valley Line, now New Jersey Transit's Raritan Valley Commuter Line (at former Delaware & Bound Brook milepost 58.50), in Bridgewater Township, all in Somerset County, NJ (the Line).² Mr. Riffin states that no agreement has been reached, but he proposes to acquire the Line and operating rights from its owner (the titleholder), which may be Consolidated Rail Corporation (Conrail), within 90 days of the December 6, 2006 filing of the notice.

¹ In a decision served in CSX Transportation, Inc.—Abandonment Exemption—In Allegany County, MD (In the Matter of an Offer of Financial Assistance), STB Docket No. AB-55 (Sub-No. 659X) (STB served Aug. 18, 2006), Mr. Riffin was substituted for WMS, LLC, as the purchaser of a rail line in Maryland.

² Mr. Riffin originally filed a notice of exemption on November 21, 2006. However, acknowledging that it was erroneously filed under 49 CFR 1150.31 (for a noncarrier), Mr. Riffin filed an amended notice under 49 CFR 1150.41 (for a Class III carrier) on December 1, 2006. He subsequently filed additional information on December 6, 2006. Accordingly, the filing date for this notice of exemption is December 6, 2006.

Mr. Riffin certifies that the projected annual revenues as a result of this transaction will not exceed those that would qualify Mr. Riffin as a Class III carrier, and further certifies that Mr. Riffin's projected annual revenues will not exceed $5 million.

The earliest this transaction may be consummated is the January 5, 2006 effective date of the exemption (30 days after the exemption was filed).

If the verified notice contains false or misleading information, the exemption is void ab initio. Petitions to revoke the exemption under 49 U.S.C. 10502(d) may be filed at any time. The filing of a petition to revoke does not automatically stay the transaction. Petitions for stay must be filed no later than December 29, 2006.

An original and 10 copies of all pleadings, referring to STB Finance Docket No. 34963, must be filed with the Surface Transportation Board, 1925 K Street, NW., Washington, DC 20423-0001. In addition, a copy of each pleading must be served on James Riffin, 1941 Greenspring Drive, Timonium, MD 21093.

Board decisions and notices are available on our Web site at http://www.stb.dot.gov.

Decided: December 12, 2006.
By the Board, David M. Konschnik, Director, Office of Proceedings.
Vernon A. Williams,
Secretary.

[FR Doc. E6-21424 Filed 12-19-06; 8:45 am]

BILLING CODE 4915-01-P